DEPARTMENT OF TRANSPORTATION

National Highway Traffic Safety Administration

Reports, Forms and Record Keeping Requirements; Agency Information Collection Activity Under OMB Review

AGENCY: National Highway Traffic Safety Administration, U.S. Department of Transportation.

ACTION: Notice; correction.

SUMMARY: This document corrects the docket number in a Federal Register notice published on Friday, December 4, 2015, that announced a request for public comment on proposed collection of information.

FOR FURTHER INFORMATION CONTACT: Walter Culbreath, U.S. Department of Transportation, NHTSA, Room W51-316, 1200 New Jersey Avenue SE., Washington, DC 20590. Mr. Culbreath's telephone number is (202) 366-1566.

Correction

In the Federal Register of December 4, 2015, in FR Doc. NHTSA-2015-0115, on page 75894, column 2 needs to read:

(1) OMB Control Number: 2127-0003.

Kevin Mahoney,
Director, Office of IT Services.

[FR Doc. 2016-08405 Filed 4-12-16; 8:45 am]

BILLING CODE 4910-59-P